DEPARTMENT OF HEALTH AND HUMAN SERVICES

Food and Drug Administration

[Docket No. FDA-2025-N-3215]

Agency Information Collection Activities; Submission for Office of Management and Budget Review; Comment Request; FDA Food Safety and Nutrition Survey

AGENCY: Food and Drug Administration, HHS.

ACTION: Notice.

SUMMARY: The Food and Drug Administration (FDA, the Agency, or we) is announcing that a proposed collection of information has been submitted to the Office of Management and Budget (OMB) for review and clearance under the Paperwork Reduction Act of 1995.

DATES: Submit written comments (including recommendations) on the collection of information by October 3, 2025.

ADDRESSES: To ensure that comments on the information collection are received, OMB recommends that written comments be submitted to https://www.reginfo.gov/public/do/PRAMain. Find this particular information collection by selecting “Currently under Review—Open for Public Comments” or by using the search function. The OMB control number for this information collection is 0910-0345. Also include the FDA docket number found in brackets in the heading of this document.

FOR FURTHER INFORMATION CONTACT: Amber Sanford, Office of Operations, Food and Drug Administration, Three White Flint North, 10A-12M, 11601 Landsdown St., North Bethesda, MD 20852, 301-796-8867, PRAStaff@fda.hhs.gov.

SUPPLEMENTARY INFORMATION: In compliance with 44 U.S.C. 3507, FDA has submitted the following proposed collection of information to OMB for review and clearance.

Food Safety and Nutrition Survey

OMB Control Number 0910-0345—Reinstatement

Under section 1003(b)(2) of the Federal Food, Drug, and Cosmetic Act (21 U.S.C. 393(b)(2)), we are authorized to conduct research relating to foods and to conduct educational and public information programs relating to the safety of the nation's food supply. In the past, FDA has conducted two separate surveys, a Food Safety Survey and a Health and Diet Survey, to measure consumers' knowledge, attitudes, and beliefs about food safety and nutrition issues. These surveys have been conducted every 3 to 5 years since the 1980s. In the Federal Register of August 14, 2018 (83 FR 40293), we announced the combination of these two surveys, which will now be the FDA Food Safety and Nutrition Survey (FSANS). Data from FDA's food safety and nutrition surveys have been used to support rulemaking and educational campaigns and to measure progress toward Healthy People 2010, 2020, and 2030 food safety goals. The proposed 2025 FSANS will contain many of the same questions and topics as the previous surveys to facilitate measuring trends in food safety and diet knowledge, attitudes, and behaviors over time. The proposed survey will also be updated to explore emerging consumer food safety and nutrition topics and to expand understanding of previously asked topics.

The 2025 FSANS will be both a paper-and-pencil and web-based survey. Respondents will be contacted by postal mail, using an addressed-based sampling frame. Once contacted, respondents will be encouraged to take the survey online. A paper-and-pencil version of the survey will be mailed to those who do not initially take the web-based version of the survey. One randomly selected adult from each sampled household will be invited to participate in the survey using the Hagen-Collier method.¹ A total of 5,000 respondents will be surveyed. We will sample approximately 25,000 households to offset nonresponding households and ineligible addresses and achieve 5,000 adult respondents. Participation in the survey will be voluntary. Cognitive interviews and a pre-test will be conducted prior to fielding the survey.

¹ In this method, we randomly select a category based on sex and age (based on the sex-age composition of the household), and then take the adult in that selected category.

Description of Respondents: Respondents to this collection of information are individuals who are adults aged years 18 or older drawn from the 50 states and the District of Columbia.

In the Federal Register of July 31, 2024 (89 FR 61457), FDA published a 60-day notice requesting public comment on the proposed collection of information. Although one comment was received, it did not respond to any of the information collection topics solicited under the PRA.

FDA estimates the burden of this collection of information as follows:

Table 1—Estimated Annual Reporting Burden ¹
Activity | Number of respondents | Number of responses per respondent | Total annual responses | Average burden per response | Total hours
Cognitive interview screener | 75 | 1 | 75 | 0.083 (5 minutes) | 6
Cognitive interview | 18 | 1 | 18 | 1 | 18
Pretest | 100 | 1 | 100 | 0.33 (20 minutes) | 33
Mail survey | 5,000 | 1 | 5,000 | 0.33 (20 minutes) | 1,650
Total |  |  | 5,193 |  | 1,707
¹ There are no capital costs or operating and maintenance costs associated with this collection of information.

FDA's burden estimate is based on the Agency's prior experience with food safety and nutrition surveys. We will use a cognitive interview screener with 75 individuals to recruit prospective interview participants for a total of 18 individuals. We estimate that it will take each screener respondent approximately 5 minutes (0.083 hours) to complete the cognitive interview screener, for a total of 6 hours. We will conduct cognitive interviews with 18 participants. We estimate that it will take each participant approximately 1 hour to complete the interview, for a total of 18 hours. Prior to the administration of the surveys, the Agency plans to conduct a pretest to identify and resolve potential survey administration problems. The pretest will be conducted with 100 participants; we estimate that it will take each participant 20 minutes (0.33 hours) for the pretest for a total of 33 hours. We estimate that 5,000 eligible adults will participate in the survey with each taking 20 minutes (0.33 hours), for a total of 1,650 hours. Thus, the total estimated burden is 1,707 hours.

Grace R. Graham,
Deputy Commissioner for Policy, Legislation, and International Affairs.

[FR Doc. 2025-16849 Filed 9-2-25; 8:45 am]

BILLING CODE 4164-01-P